DEPARTMENT OF HEALTH AND HUMAN SERVICES

Centers for Medicare & Medicaid Services

Administration on Aging

RIN 0938-ZA48

Aging and Disability Resource Center Grant Program

ACTION: Notice.

Part 1. Overview Information

Funding Opportunity Title: Aging and Disability Resource Center Grant Program.

Program Announcement Nos.: AoA-03-05 and CMS-2196-N.

Catalog of Federal Domestic Assistance (CFDA) No.: 93.048 (AoA) and 93.779 (CMS).

DATES: Deadline for Submitting the Signed Cooperative Agreement: Fiscal Year (FY) 2004 Qualified Applicants (see “Definition of Qualified Applicants” in Part 2, section III.1 of this notice) who plan to accept a grant award in FY 2004 must submit the signed Cooperative Agreement (that was enclosed with their written notification dated April 23, 2004) no later than May 24, 2004. FY 2004 Qualified Applicants who fail to submit a signed Cooperative Agreement on or before May 24, 2004, will not receive funding, and those funds may be reallocated to the next highest-ranked Qualified Applicant.

Because funding for this program appears as part of the Administration on Aging (AoA) and CMS' FY 2004 budgets, all awards will be made before October 1, 2004. All grantees receiving awards under this funding opportunity will have a budget period of 36 months and a start date of no later than September 30, 2004.

Part 2. Full Text of the Announcement

I. Funding Opportunity Description

1. Background

The Administration on Aging (AoA) and the Centers for Medicare & Medicaid Services (CMS) announce the continuation in funding of the joint AoA and CMS Aging and Disability Resource Center grants program. These discretionary grants to be issued as cooperative agreements will fund 12 projects at a Federal share of up to $800,000 over 3 years (11 grants at approximately $800,000 each, and 1 grant at $200,000). The Aging and Disability Resource Center grants are designed to assist States in developing citizen-centered, “one-stop” entry points into the long-term support system and will be based in local communities. AoA and CMS plan to continue to process the ranked applications submitted in FY 2003, beginning with the highest-ranked applications that were not funded in FY 2003. This notice also contains information about the manner in which we will continue the award process that originated in FY 2003. We will not accept any new applications for Aging and Disability Resource Center grants in FY 2004.

AoA's authority for these grants is under the Older Americans Act, (Pub. L. 106-501).

CMS' legislative authority for these grants is under section 1110 of the Social Security Act (the Act). Funding and Congressional language for the CMS Real Choice Systems Change Grants was provided in the Consolidated Appropriations Act, 2004 (Pub. L. 108-199). Although the Congress appropriated $40 million in funding for Real Choice Systems Change activities, the Congress also passed an across-the-board rescission of 0.59 percent and a second rescission of 0.6864 percent leaving a total appropriation of $39,491,060. Some of these funds will be used for FY 2004 Aging and Disability Resource Center grants that CMS will fund in collaboration with the AoA. A separate Federal Register notice, Medicaid Program; Real Choice Systems Change Grants (CMS-2189-N), will be published regarding the remaining Real Choice Systems Change Grand funds.

AoA and CMS are the designated agencies with administrative responsibility for their respective portion of funding for this joint effort.

Purpose of Grant Awards: The awards are to be used by States to develop Aging and Disability Resource Center programs that will provide citizen-centered, “one-stop” entry points into the long term support system and will be based in local communities accessible to people who may require long term support. Aging and Disability Resource Centers will serve individuals who need long-term support, their family caregivers, and those planning for future long-term support needs. These Aging and Disability Resource Center grants, to be awarded by AoA and CMS as cooperative agreements, are a part of the President's New Freedom Initiative.

The Aging and Disability Resource Center Grant Program is part of AoA's Research and Demonstration efforts under Title IV of the Older Americans Act and is one of several demonstration opportunities in support of the New Freedom Initiative.

CMS has restructured its research and demonstration efforts under section 1110 of the Act into eight themes. The Aging and Disability Resource Center Grants are part of CMS' Research and Demonstration efforts under Theme 5; Strengthening Medicaid, State Children's Health Insurance Program (SCHIP), and State Programs. This effort includes research and demonstrations on ways to improve access to and delivery of health care to the persons served by Medicaid. The New Freedom Initiative calls for the removal of barriers to community living for people with disabilities. CMS is the designated Department of Health and Human Services agency with administrative responsibility for the Real Choice Systems Change Grant program.

2. Fiscal Year 2003 Aging and Disability Resource Center Grants

On May 29, 2003, AoA and CMS jointly published a Notice of Funding Availability for the Aging and Disability Resource Center Grants in the Federal Register (68 FR 32053). Under this notice, AoA and CMS invited proposals from States, in partnership with their disability and aging communities, to design and implement effective and enduring improvements in community long term support systems. Grant applications were due on July 28, 2003. To view a copy of the Federal Register notice and Program Announcement from FY 2003, please visit the respective AoA and CMS Web sites at: http://www.aoa.gov/prof/aging_dis.asp and http://www.cms.hhs.gov/newfreedom/resctrannappinst.pdf.

The response of States to this grant opportunity revealed a strong interest on the part of States and their citizens to improve their community-based systems, and a vital role for Federal technical and resource assistance. We received 37 applications: 36 applications were from States and 1 application was from a Territory.

On September 22, 2003, we announced the award of 12 FY 2003 Aging and Disability Resource Center Grants to States totaling $9.3 million (see section VIII of this notice for a list of FY 2003 grantees). For further information regarding the FY 2003 grantees, please visit the respective AoA and CMS Web sites at: http://www.aoa.gov/prof/aging_dis.asp or http://www.cms.hhs.gov/newfreedom.

Since we received far more applications in FY 2003 than we were able to fund, we will not accept any new applications in FY 2004. Instead, we have used the independent review panel scores from FY 2003 to determine the ranking of all applications and will continue to process the ranked applications submitted in FY 2003, beginning with the highest-ranked applications that were not funded in FY 2003 (for a listing of FY 2004 Qualified Applicants, see Table 2). In this way, we will attempt to provide funding for applications where funding was previously unavailable. On the day of publication of this Federal Register notice, we will contact the 12 FY 2004 Qualified Applicants by phone to advise them of the grant award. In addition, we will send to the FY 2004 Qualified Applicants a notice of the grant award, terms and conditions of award, and a Cooperative Agreement.

We note that the Commonwealth of the Northern Mariana Islands (CNMI) is one of 12 awardees of the 2004 Aging and Disability Resource Center grants. Due to CNMI's smaller, less complicated State government service structure, and a considerably smaller grant target population, the goals of the Aging and Disability Resource Center grant can be achieved with less funding. To illustrate, the total CNMI population is 69,221, of which 1,047 are elderly (65 years and older), and 66 persons are 85 years and older. Of the total population, approximately 1,928 are individuals with a known disability (data source: 2000 Census). Therefore, the recommended funding level for CNMI is $200,000 of the requested $756,114.

We reserve the right to ensure reasonable balance in awarding grants in FY 2004, in terms of key factors (such as geographic distribution and broad target group representation), as noted in the FY 2003 Program Announcement (see section I.2 of this notice for the Web site address). We reserve the right to reallocate those funds to the next highest-ranked FY 2004 Qualified Applicant(s), if a FY 2004 Qualified Applicant is subsequently determined not to have met all of the requirements of our FY 2003 Notice of Funding Availability for the Aging and Disability Resource Center Grants (68 FR 32053), the grant terms and conditions, or otherwise fail to submit a signed Cooperative Agreement to us by the date indicated above in the DATES section of this notice.

II. Award Information

1. Funding Available

Using FY 2004 funds, AoA and CMS will fund 12 Aging and Disability Resource Center Grants that total approximately $8.97 million (11 grants at approximately $800,000 each and 1 grant at $200,000).

2. Description of Grant Opportunities

As previously mentioned, this notice contains information about the manner in which we will continue the award process that originally started in FY 2003. We will not accept any new applications for Aging and Disability Resource Center grants in FY 2004. As previously stated, to view a copy of the Federal Register notice and Program Announcement from FY 2003, please visit the respective AoA and CMS Web sites at: http://www.aoa.gov/prof/aging_dis.asp and http://www.cms.hhs.gov/newfreedom/resctrannappinst.pdf.

III. Eligibility Information

1. Definition of Qualified Applicants

We will not accept any new applications in FY 2004, due to the number of quality, unfunded applications received in FY 2003. Instead, we will continue to process the ranked applications submitted in FY 2003, beginning with the highest-ranked applications that were not funded in FY 2003. We will offer funding to those FY 2004 Qualified Applicants on the day that this notice is published in the Federal Register.

FY 2004 Qualified Applicants are those Applicants who (1) submitted an application in FY 2003; and (2) received from us written notification dated November 18, 2003 that advised the applicant that his or her application received a score from the review panel in a range that would permit us to make an award “subject to the availability of funding in FY 2004.” Through our technical assistance efforts, we will continue to work with all States and Territories to improve community-integrated long-term services and supports.

2. Cost Sharing or Matching

As stated in the FY 2003 Program Announcement, “Grantees are required to provide at least 5 percent of the project's total cost with non-Federal cash or a non-financial recipient contribution (match) in order to be considered for the award” (see 68 FR 32054). A full description of the cost sharing or matching requirements for the Aging and Disability Resource Center Grants is included in the FY 2003 Program Announcement (see “Eligibility for grant awards and other requirements” at 68 FR 32054.)

3. Eligibility Threshold Criteria

See “Qualified Applicants” in part 2, section III.1 of this notice.

IV. Application and Submission Information

As previously noted, we will not accept new applications for funding in FY 2004, as we will continue to process the ranked applications submitted in FY 2003, beginning with the highest-ranked applications that were not funded in FY 2003.

1. Address to Request Application Package

N/A.

2. Content and Form of Application Submission

N/A.

3. Submission Dates and Times

Cooperative Agreement: The addresses for submitting signed Cooperative Agreements are listed in order by our preferred means of receipt; they are as follows: (1) Facsimile to Margaret Tolson at (202) 357-3466; or (2) mail to Margaret Tolson, U.S. Department of Health and Human Services, Administration on Aging, Office of Grants Management, Washington, DC 20201. Signed Cooperative Agreements mailed through the U.S. Postal Service or a commercial delivery service will be considered “on time” if received by close of business on the closing date, or postmarked (first class mail) by the date specified and received within 5 business days. If express, certified, or registered mail is used, the FY 2004 Qualified Applicant should obtain a legible dated mailing receipt from the U.S. Postal Service. Private metered postmarks are not acceptable as proof of timely mailings. Cooperative Agreements that do not meet the above criteria will be considered late.

FY 2004 Qualified Applicants who would like to obtain an electronic copy of the Cooperative Agreement or have questions regarding the Cooperative Agreement, please contact Greg Case at (202) 357-3442 or e-mail at greg.case@aoa.gov.

4. Funding Restrictions

Reimbursement of indirect costs under this notice is governed by the provisions of OMB Circular A-87 and the regulations of the U. S. Department of Health and Human Services (HHS) (45 CFR 92—States), Grants Policy Directive (GPD) Part 3.01: Post-Award—Indirect Costs and Other Cost Policies. A copy of OMB Circular A-87 is available online at: http://www.whitehouse.gov/omb/circulars/a087/a087.html. Additional information regarding the Department's internal policies for indirect rates is available online at: http://www.hhs.gov/grantsnet/adminis/gpd/gpd301.htm.

5. Other Submission Requirements

N/A.

V. Application Review Information

1. Criteria

N/A.

2. Review and Selection Process

N/A.

VI. Award Administration Information

1. Award Notices

Successful applicants will receive two Notices of Grant Award (NGA). One will be signed and dated by the AoA Grants Management Officer, and one will be signed and dated by the CMS Grants Management Officer. The NGA is the document that authorizes the grant award, and it will be sent through the U.S. Postal Service to the applicant organization. Any communication between either AoA or CMS and applicants before the issuance of the NGA is not an authorization to begin performance of a project. The notices of grant award will be concurrently issued with the publication of the Federal Register notice.

2. Administrative and National Policy Requirements

A full description of the administrative and national policy requirements for Aging and Disability Resource Center Grants are described in the May 29, 2003, Federal Register (68 FR 32053) and the FY 2003 Program Announcement.

This funding opportunity will lead to awards with AoA's and CMS' standard terms and conditions and may lead to awards with additional “special” terms and conditions. FY 2004 Qualified Applicants should be aware that special requirements could apply to particular awards based on the particular circumstances of the effort to be supported and/or deficiencies identified in the application by AoA and CMS (for example, failure to supply an acceptable work plan or detailed 36-month budget).

3. Reporting

Grantees must agree to cooperate with any Federal evaluation of the program and provide semi-annual and final reports in a form prescribed by AoA and CMS (including the SF-269a, “Financial Status Report”). These reports will describe how grant funds were used, program progress, any barriers to project implementation, and measurable outcomes. AoA and CMS will provide a format for reporting and technical assistance necessary to complete required report forms. Grantees must also agree to respond to requests that are necessary for the evaluation of the national Real Choice Systems Change Grants efforts and provide data on key elements of their Real Choice Systems Change Grant activities.

VII. Agency Contacts

To obtain additional information about the Aging and Disability Resource Center Grants, please visit our respective Web sites at: http://www.aoa.gov/prof/aging_dis/aging_dis.as or http://www.cms.hhs.gov/newfreedom/default.asp. To obtain additional information regarding the Real Choice Systems Change Grants Program, please visit the CMS Web site at: http://www.cms.hhs.gov/newfreedom/default.asp.

Programmatic questions concerning the Aging and Disability Resource Center Grants may be directed to: Greg Case, U.S. Department of Health and Human Services, Administration on Aging, Center for Planning and Policy Development, Washington, DC 20201, telephone: (202) 357-3442 or e-mail: greg.case@aoa.gov. Questions about the Real Choice Systems Change Grant Program and this notice may be directed to: Mary Guy, U.S. Department of Health and Human Services, Centers for Medicare & Medicaid Services, Center for Medicaid and State Operations, DEHPG/DCSI, Mail Stop: S2-14-26, 7500 Security Blvd., Baltimore, MD 21244-1850, (410) 786-2772, or e-mail: RealChoiceFY04@cms.hhs.gov.

Administrative questions about the Aging and Disability Resource Center Grants may be directed to: Margaret Tolson, U.S. Department of Health and Human Services, Administration on Aging, Office of Grants Management, Washington, DC 20201, 202-357-3440 (voice), 202-357-3466 (facsimile) or by e-mail by at Margaret.tolson@aoa.gov or Judith L. Norris, Centers for Medicare & Medicaid Services, OICS/Acquisition and Grants Group, Mail Stop C2-21-15, 7500 Security Boulevard, Baltimore, MD 21244-1850, 410-786-5130 (voice), 410-786-9088 (fax), or by e-mail at Jnorris1@cms.hhs.gov.

VIII. Other Information

Table 1.—Existing Awards—Below Are the Grantees That Accepted Awards in FY 2003 as Described in Part 2, Section I.2 of This Notice
State | Agency | Total award
Aging and Disability Resource Center Grant Program Fiscal Year 2003 Awards
Louisiana | Governor's Office of Elderly Affairs | $799,998
Maine | DHS Bureau of Elder and Adult Services | 767,205
Maryland | Department of Aging | 800,000
Massachusetts | Executive Office of Elder Affairs | 750,000
Minnesota | Board on Aging | 739,136
Montana | DPHHS Senior and Long-Term Care Division | 699,284
New Hampshire | University of New Hampshire | 800,000
New Jersey | Department of Health & Senior Services | 798,041
Pennsylvania | Department of Aging | 764,000
Rhode Island | Department of Elderly Affairs | 749,000
South Carolina | DHHS Bureau of Senior Services | 800,000
West Virginia | Bureau of Senior Services | 798,975
Total |  | 9,265,639

Table 2.—New Awards—Below Are the Qualified Applicants That Were Offered New Awards in FY 2004 as Described in Part 2, Section I.2 of This Notice.
| Agency | Address | Award amount
Aging and Disability Resource Center Grant Program Fiscal Year 2004 Qualified Applicants
Arkansas | Arkansas Department of Human Services, Division of Aging and Adult Services | P.O. Box 1437, Slot S530, Little Rock, AR 72203-1437 | $793,262
CNMI | Commonwealth of the Northern Mariana Islands, Department of Community & Cultural Affairs | Caller Box 10007, Saipan, MP 96950 | 200,000
Iowa | State of Iowa, Department of Elder Affairs | Clemens Building, 3rd Floor, 200 10th Street, Des Moines, IA 50309-3609 | 799,950
North Carolina | North Carolina Department of Health & Human Services, Office of Long Term Care | 2101 Mail Services Center, Raleigh, NC 27699-2101 | 800,000
Georgia | Georgia Department of Human Resources, Division of Aging Services | Two Peachtree St., NW., Suite 9.398, Atlanta, GA 30303-3142 | 799,998
Illinois | Illinois Department on Aging, Division of Older American Services | 421 East Capitol Avenue, #100, Springfield, IL 62701-1789 | 800,000
New Mexico | New Mexico Aging and Long-Term Care Dept., Consumer and Elder Rights Division | 228 East Palace Ave., Santa Fe, NM 87501 | 798,900
Wisconsin | State of Wisconsin, Department of Health and Family Services | 1 West Wilson Street, P.O. Box 7850, Madison, WI 53707-7850 | 799,999
Alaska | Alaska Housing Finance Corporation | P.O. Box 101020, Anchorage, AK 99510-1020 | 799,581
Indiana | Indiana Division of Disability, Aging & Rehabilitative Services, Bureau of Aging and In-Home Services | P.O. Box 7083, Indianapolis, IN 46207-7083 | 778,810
California | State of California Department of Aging, Director's Office | 1600 K Street Sacramento, CA 95814 | 799,998
Florida | Florida Department of Elder Affairs Planning and Evaluation Unit | 4040 Esplanade Way, Tallahassee, FL 32399-7000 | 799,945
Total |  |  | 8,970,443

IX. Information Collection Requirements

In summary, this notice informs applicants of the “AoA and CMS Aging and Disability Resource Center Grants Program” that CMS will not accept any new applications but plans to continue to process the ranked applications submitted in FY 2003, beginning with the highest-ranked applications that were not funded in FY 2003. This notice also informs grantees that they must agree to cooperate with any Federal evaluation of the program, provide semi-annual and final reports in a form prescribed by AoA and CMS, and respond to requests that are necessary for the evaluation of the national Real Choice Systems Change Grants efforts.

These information collection requirements are subject to the PRA; however, the burden associated with these requirements are currently approved under OMB control number 0938-0903 entitled “AoA Grant Solicitation” with a current expiration date of 2/28/2007.

Dated: April 2, 2004.
Josefina G. Carbonell,
Assistant Secretary for Aging.

Dated: March 19, 2004.
Dennis G. Smith,
Acting Administrator, Centers for Medicare & Medicaid Services.

[FR Doc. 04-8830 Filed 4-16-04; 8:45 am]

BILLING CODE 4120-01-P